DEPARTMENT OF HOMELAND SECURITY

Coast Guard

33 CFR Part 165

[CCGD05-07-035]

RIN 1625-AA00

Safety Zone: Satellite Launch, NASA Wallops Flight Facility, Wallops Island, VA

AGENCY: Coast Guard, DHS.

ACTION: Temporary final rule.

SUMMARY: The U. S. Coast Guard is establishing a safety zone in support of a satellite rocket space launch originating from the Mid-Atlantic Regional Spaceport (MARS) Pad 0B launch complex. This action is intended to restrict vessel traffic within 12-nautical miles of Wallops Island, VA as described herein. This safety zone is necessary to facilitate the launch process and protect mariners from the hazards associated with the satellite launch.

DATES: This rule is effective from 2 a.m. April 21, 2007 until 5 a.m. April 24, 2007.

ADDRESSES: Documents indicated in this preamble as being available in the docket are part of docket CGD05-07-035 and are available for inspection or copying at the U. S. Coast Guard Sector Hampton Roads, Norfolk Federal Building, 200 Granby St., Suite 700, Norfolk, VA, 23510 between 9 a.m. and 2 p.m., Monday through Friday, except Federal holidays.

FOR FURTHER INFORMATION CONTACT: LT Bill Clark, Waterways Management Division, U. S. Coast Guard Sector Hampton Roads, Virginia at (757) 668-5580.

SUPPLEMENTARY INFORMATION:

Regulatory Information

Pursuant to 5 U.S.C. 553(b)(B), a notice of proposed rulemaking (NPRM) was not published for this regulation as good cause exists for not publishing a NPRM and for making this regulation effective less than 30 days after Federal Register publication under 5 U.S.C. 553(d)(3). Any delay encountered in this regulation's effective date by publishing a NPRM would be contrary to public safety as immediate action is required to prevent vessel traffic from transiting through the navigable waters in the vicinity of the Wallops Island, Chincoteague Inlet, and those waters extending beyond the State of Maryland located within the boundaries of the safety zone.

Background and Purpose

On April 21, 2007, the National Aeronautics and Space Administration (NASA) will be attempting to launch a rocket carrying a spacecraft from Wallops Island, VA. Spectators are expected to be observing from both land and sea.

Vessel traffic in the vicinity of this location will be temporarily restricted while the safety zone is in effect and as described herein. The safety zone will be in effect from 2 a.m. on April 21, 2007 until 5 a.m. on April 24, 2007. This safety zone will be enforced from 2 a.m. until 5 a.m. each day the safety zone is in effect. If the launch occurs as planned on one of those days during this period, then the safety zone will no longer be enforced on subsequent days following the launch as identified in this paragraph.

To protect mariners and spectators from the hazards associated with the launch, and to protect the launch vehicle and equipment a warning signal will be displayed in accordance with 33 CFR 334.130(b)(3).

Discussion of Rule

The U.S. Coast Guard is establishing a regulated area that consists of a safety zone encompassing all navigable waters from 37°-48′-30″ N/075°-31′-58″ W on Northam Narrows to 37°-51′-30″ N/075°-28′-36″ W on Cat Creek. This regulated area will follow the Virginia coastal and inland shoreline from the aforementioned position in Cat Creek out to a point on the northeast tip of Wallops Island at 37°-53′-03″ N/075°-25′-05″ W, thence to a point on the southwest tip of Assateague Island at 37°-52′-28″N/075°-24′-20″ W, thence to a point on the southeast side of Assateague Island at 37°-51′-32″N/075°-22′-01″ W, thence easterly to a point on the United States territorial seas boundary line at 37°-47′-30″ N/075°-09′-55″ W. The regulated area will continue in a southerly direction along the United States territorial seas boundary line to a point at 37°-40′-56″ N/075°-21′-12″ W, thence westerly to a point on Assawoman Island at 37°-47′-11″ N/075°-31′-34″ W, thence back again to the point of origin. The safety zone will be enforced from 2 a.m. until 5 a.m. on April 21, 2007 and every day there after at the same time until April 24, 2007 that the launch is attempted. After April 24, 2007 the regulated area will no longer be in effect. Except for participants and vessels authorized by the U. S. Coast Guard Patrol Commander, no person or vessel may enter or remain in the regulated area.

Regulatory Evaluation

This rule is not a “significant regulatory action” under section 3(f) of Executive Order 12866, Regulatory Planning and Review, and does not require an assessment of potential costs and benefits under section 6(a)(3) of that Order. The Office of Management and Budget has not reviewed it under that Order.

We expect the economic impact of this rule to be so minimal that a full Regulatory Evaluation under the regulatory policies and procedures of DHS is unnecessary.

Although this regulation restricts access to the regulated area, the effect of this rule will not be significant because: (i) The safety zone will be in effect for a limited duration; and (ii) the Coast Guard will make notifications via maritime advisories so mariners can adjust their plans accordingly.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

However, this rule may affect the following entities, some of which may be small entities: The owners and operators of vessels intending to transit or anchor in the described portion of the safety zone during the enforcement periods from 2 a.m. to 5 a.m. from April 21, 2007 until April 24, 2007. The safety zone will not have a significant impact on a substantial number of small entities, because the zone will only be in place for a few hours each day during the effective period and maritime advisories will be issued, so the mariners can adjust their plans accordingly.

Assistance for Small Entities

Under section 213(a) of the Small Business Regulatory Enforcement Fairness Act of 1996 (Pub. L. 104-121), we offered to assist small entities in understanding the rule so that they could better evaluate its effects on them and participate in the rulemaking process. If the rule would affect your small business, organization, or governmental jurisdiction and you have questions concerning its provisions or options for compliance, please contact Lieutenant Bill Clark, Chief, Waterways Management Division, Sector Hampton Roads at (757) 668-5580.

The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation. An “Environmental Analysis Check List” will be available in the docket where indicated under ADDRESSES.

List of Subjects in 33 CFR Part 165

Harbors, Marine safety, Navigation (water), Reporting and recordkeeping requirements, Security measures, and Waterways.

For the reasons discussed in the preamble, the Coast Guard amends 33 CFR part 165 Subpart C as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6 and 160.5; Pub. L. 107-295, 116 Stat. 2064; Department of Homeland Security Delegation No. 0170.1.

2. Add temporary § 165.T05-035, to read as follows:

§ 165.T05-035 Security Zone: Wallops Island, Virginia.

(a) Location. The following area is a safety zone: All navigable waters from 37°-48′-30″N/075°-31′-58″W on Northam Narrows to 37°-51′-30″N/075°-28′-36″W on Cat Creek, thence to a point following the Virginia coastal and inland shoreline to a point on the northeast tip of Wallops Island at 37°-53′-03″N/075°-25′-05″W, thence easterly to a point on the southwest tip of Assateague Island at 37°-52′-28″N/075°-24′-20″W, thence along the shoreline to a point on the southeast side of Assateague Island at 37°-51′-32″N/075°-22′-01″W, thence easterly to a point on the United States territorial seas boundary line at 37°-47′-30″N/075°-09′-55″W. The regulated area will continue in a southerly direction along the United States territorial seas boundary line to a point at 37°-40′-56″N/075°-21′-12″W, thence westerly to a point on Assawoman Island at 37°-47′-11″N/075°-31′-34″W, thence back again to the point of origin in the Captain of the Port, Hampton Roads, Virginia zone as defined in 33 CFR 3.25-10.

(b) Definition. As used in this section Captain of the Port Representative: Any U.S. Coast Guard commissioned, warrant or petty officer who has been authorized by the Captain of the Port, Hampton Roads, Virginia to act on his behalf.

(c) Regulations. (1) In accordance with the general regulations in 165.23 of this part, entry into this zone is prohibited unless authorized by the Captain of the Port, Hampton Roads or his designated representatives.

(2) The operator of any vessel in the immediate vicinity of this safety zone shall:

(i) Stop the vessel immediately upon being directed to do so by any commissioned, warrant or petty officer on shore or on board a vessel that is displaying a U.S. Coast Guard Ensign.

(ii) Proceed as directed by any commissioned, warrant or petty officer on shore or on board a vessel that is displaying a U.S. Coast Guard Ensign.

(3) The Captain of the Port, Hampton Roads and the Sector Duty Officer at Sector Hampton Roads in Portsmouth, Virginia can be contacted at telephone number (757) 668-5555 or (757) 484-8192.

(4) The Coast Guard Representatives enforcing the safety zone can be contacted on VHF-FM 13 and 16.

(d) Effective Date. This regulation is effective from 2 a.m. on April 21, 2007 until 5 a.m. on April 24, 2007.

Dated: April 4, 2007.
Patrick B. Trapp,
Captain, U.S. Coast Guard, Captain of the Port, Hampton Roads.

[FR Doc. E7-7183 Filed 4-13-07; 8:45 am]

BILLING CODE 4910-15-P